FEDERAL COMMUNICATIONS COMMISSION

47 CFR Parts 2, 80, and 90

[ET Docket No. 15-99; FCC 17-33]

WRC-12 Implementation Report and Order; Corrections

AGENCY: Federal Communications Commission.

ACTION: Correcting amendments.

SUMMARY: On June 14, 2017, the Federal Communications Commission published final rules in the Report and Order, FCC 17-33 that amended the Commission rules. Due to inaccurate amendatory instructions, the effective date of the amendments to §§ 2.106, 80.203(p) and 80.357(b)(1) was not correctly specified in the final regulations, and the revisions to § 90.103(b) could not be incorporated in the final regulations. This document corrects the amendatory instructions and the final regulations.

DATES: Effective October 18, 2017.

FOR FURTHER INFORMATION CONTACT: Tom Mooring, Office of Engineering and Technology, (202) 418-2450, Tom.Mooring@fcc.gov.

SUPPLEMENTARY INFORMATION: A summary of the Commission's Report and Order, ET Docket No. 15-99, FCC 17-33, adopted March 27, 2017, and released March 29, 2017, was published in the Federal Register on June 14, 2017 (82 FR 27178). This document specifies an applicability date of July 14, 2017 for the amendments to 47 CFR 2.106 NG8, 80.203(p), and 80.357(b)(1) in FCC 17-33, and corrects the amendatory instructions so the revisions to 47 CFR 90.103(b) in FCC 17-33 can be incorporated in the final regulations.

List of Subjects

47 CFR Part 2

Radio, Telecommunications.

47 CFR Parts 80 and 90

Radio, Reporting and recordkeeping requirements.

Accordingly, 47 CFR parts 2, 80, and 90 are corrected by making the following correcting amendments:

PART 2—FREQUENCY ALLOCATIONS AND RADIO TREATY MATTERS; GENERAL RULES AND REGULATIONS

1. The authority citation for part 2 continues to read as follows:

Authority: 47 U.S.C. 154, 302a, 303, and 336, unless otherwise noted.

2. In § 2.106, revise footnote NG8 in the list of Non-Federal Government (NG) Footnotes to read as follows:

Non-Federal Government (NG) Footnotes

* * * * *

NG8 In the band 472-479 kHz, non-Federal stations in the maritime mobile service that were licensed or applied for prior to July 14, 2017 may continue to operate on a primary basis, subject to periodic license renewals.

* * * * *

PART 80—STATIONS IN THE MARITIME SERVICES

3. The authority citation for part 80 continues to read as follows:

Authority: Sections 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

4. In § 80.203, revise paragraph (p) to read as follows:

§ 80.203 Authorization of transmitters for licensing.

* * * * *

(p) Applicable July 14, 2017, the Commission no longer accepts applications for certification of non-AIS VHF radios that include channels 75 and 76.

5. In § 80.357, revise footnote 1 to the table in paragraph (b)(1) to read as follows:

§ 80.357 Working frequencies for Morse code and data transmission.

* * * * *

(b) * * *

(1) * * *

¹ All frequencies in this table are shown in kilohertz. The use of frequencies in the 472-479 kHz band is restricted to public coast stations that were licensed on or before July 14, 2017.

* * * * *

PART 90—PRIVATE LAND MOBILE RADIO SERVICES

6. The authority citation for part 90 continues to read as follows:

Authority: Sections 4(i), 11, 303(g), 303(r), and 332(c)(7) of the Communications Act of 1934, as amended, 47 U.S.C. 154(i), 161, 303(g), 303(r), and 332(c)(7), and Title VI of the Middle Class Tax Relief and Job Creation Act of 2012, Pub. L. 112-96, 126 Stat. 156.

7. In § 90.103, amend the table in paragraph (b) as follows:

a. Add entries for the 4438 to 4488 kHz and 5250 to 5275 kHz bands to the Kilohertz portion of the table in numerical order; and

b. Add entries for the 13.45 to 13.55 MHz, 16.10 to 16.20 MHz, 24.45 to 24.65 MHz, 26.20 to 26.42 MHz, 41.015 to 41.665 MHz, and 43.35 to 44.00 MHz bands to the Megahertz portion of the table in numerical order, and revise the entry for the 420 to 450 MHz band to read as follows:

§ 90.103 Radiolocation Service.

* * * * *

(b) * * *

Radiolocation Service Frequency Table
Frequency or band | Class of station(s) | Limitation
Kilohertz
* * * * * * *
4438 to 4488 | Radiolocation land | 3
5250 to 5275 | ......do | 3
Megahertz
13.45 to 13.55 | ......do | 3
16.10 to 16.20 | ......do | 3
24.45 to 24.65 | ......do | 3
26.20 to 26.42 | ......do | 3
41.015 to 41.665 | ......do | 3
43.35 to 44.00 | ......do | 3
420 to 450 | Radiolocation land or mobile | 21
* * * * * * *

* * * * *

Federal Communications Commission.
Marlene H. Dortch,
Secretary.

[FR Doc. 2017-22063 Filed 10-17-17; 8:45 am]

BILLING CODE 6712-01-P